DEPARTMENT OF ENERGY

Federal Energy Regulatory Commission

[Docket No. RP03-471-000]

MIGC, Inc.; Notice of Compliance Filing

May 9, 2003.

Take notice that on May 7, 2003, MIGC, Inc. (MIGC) tendered for filing as part of its FERC Gas Tariff, First Revised Volume No. 1, the following tariff sheets, to become effective July 1, 2003:

Fifth Revised Sheet No. 48

Second Revised Sheet No. 49A

Seventh Revised Sheet No. 52

Fourth Revised Sheet No. 84

Fourth Revised Sheet No. 87

Original Sheet No. 87A

Original Sheet No. 87B

Fourth Revised Sheet No. 88

Sixth Revised Sheet No. 89

MIGC asserts that the purpose of this filing is to comply with the Commission's order issued March 12, 2003, in Docket No. RM96-1-024, requiring all interstate pipelines to file tariff sheets in compliance with Order No. 587-R.

MIGC states that copies of the filing are being served on all jurisdictional customers and interested State Commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 19, 2003.

Magalie R. Salas,
Secretary.

[FR Doc. 03-12337 Filed 5-15-03; 8:45 am]

BILLING CODE 6717-01-P